ENVIRONMENTAL PROTECTION AGENCY

[FRL-6581-3]

Science Advisory Board; Notification of Public Advisory Committee Meeting

Pursuant to the Federal Advisory Committee Act, Public Law 92-463, notice is hereby given that the Environmental Engineering Committee (EEC) of the USEPA Science Advisory Board (SAB) will meet by conference call May 3, 2000 from 3-5 p.m. Eastern Time. Participation in this conference call is by telephone only; a limited number of lines have been reserved for members of the public wishing to participate.

Purpose of the Meeting—The primary purpose of the meeting is to allow the Committee to consider the report of its Technology Evaluation Subcommittee. The Subcommittee reviewed the degree to which quality management is built into the Environmental Technology Verification (ETV) program at a public meeting March 6-8, 2000 as announced in the February 15, 2000 Federal Register (65 FR 7550). When the Subcommittee's report is approved by the EEC, it will be forwarded to the Executive Committee of the Science Advisory Board for approval before being transmitted to the Agency. To the extent that time allows, the EEC will conduct other routine business at the meeting such as discussion of reports in progress and planned activities.

The documents reviewed by the Subcommittee are available from the Office of Research and Development as announced in the Federal Register, Volume 65, Number 8 on January 12, 2000. Copies of the Subcommittee's draft report will be available from Ms. Kathleen White Conway after April 25, 2000.

FOR FURTHER INFORMATION CONTACT: Any member of the public wishing further information concerning this meeting or wishing to submit brief oral comments must contact Ms. Kathleen White Conway, Designated Federal Officer, Science Advisory Board (1400A), U.S. Environmental Protection Agency, Ariel Rios Building North, 1200 Pennsylvania Avenue, NW, Washington, DC 20460; telephone (202) 564-4559; FAX (202) 501-0582; or via e-mail at conway.katheen@epa.gov. Email is preferred. Requests for oral comments must be in writing (e-mail, fax or mail) and received by Ms. Conway no later than noon Eastern Time on April 26.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files—in IBM-PC/Windows 95/98 format). Those providing written comments and who attend the meeting are also asked to bring 35 copies of their comments for public distribution.

Additional information concerning the Science Advisory Board, its structure, function, and composition, may be found on the SAB Website (http://www.epa.gov/sab) and in The FY1999 Annual Report of the Staff Director which is available from the SAB Publications Staff at (202) 564-4533 or via fax at (202) 501-0256.

Meeting Access

Individuals requiring special accommodation at this teleconference meeting should contact Ms. Conway at least five business days prior to the meetings so that appropriate arrangements can be made.

Dated: April 12, 2000.
Donald G. Barnes,
Staff Director, Science Advisory Board.

[FR Doc. 00-9659 Filed 4-17-00; 8:45 am]

BILLING CODE 6560-50-P